DEPARTMENT OF COMMERCE

National Oceanic and Atmospheric Administration

[RTID 0648-XE664]

Gulf of Mexico Fishery Management Council; Public Meeting

AGENCY: National Marine Fisheries Service (NMFS), National Oceanic and Atmospheric Administration (NOAA), Commerce.

ACTION: Notice of meeting open to the public.

SUMMARY: The Gulf of Mexico Fishery Management Council (Council) will hold a second Recreational Initiative Public Engagement Workshop via webinar.

DATES: The webinar will convene Thursday, March 6, 2025, from 6 p.m. to 9 p.m., EST.

ADDRESSES: The workshop will take place via webinar. You may participate by accessing the log-on information by visiting our website at www.gulfcouncil.org.

Council address: Gulf of Mexico Fishery Management Council, 4107 W Spruce Street, Suite 200, Tampa, FL 33607; telephone: (813) 348-1630.

FOR FURTHER INFORMATION CONTACT: Emily Muehlstein, Public Information Officer, Gulf of Mexico Fishery Management Council; telephone: (813) 348-1630; Emily.Muehlstein@gulfcouncil.org.

SUPPLEMENTARY INFORMATION:

Thursday, March 6, 2025; 6 p.m.-9 p.m., EST

The meeting will begin with a brief presentation on the purpose of the Recreational Initiative, provide a brief overview of results of the third Working Group Meeting, and outline the meeting format and expected outcomes. Staff will ask a series of open-ended questions and allow for open public comment on the Recreational Initiative.

Visit the Gulf Council's website for meeting registration information: https://gulfcouncil.org/recreational-initiative/. After registering, you will receive a confirmation email containing information about joining the webinar. Public feedback on the Recreational Initiative will also be gathered online through an online feedback tool located at: https://docs.google.com/forms/d/e/1FAIpQLSfwnQ6AgzIBmgx0k18yzcPpDm0RDUV-zyybR05mxoJVRmBdQg/viewform.

The meeting will be via webinar only. You may register for the webinar by visiting www.gulfcouncil.org and click on the meeting on the calendar.

The timing and order in which the agenda items are addressed may change as required to effectively address the issue, and the latest version along with other meeting materials will be posted on the website as they become available.

Special Accommodations

The meeting is physically accessible to people with disabilities. Requests for sign language interpretation or other auxiliary aid or accommodations should be directed to Kathy Pereira, (813) 348-1630, at least 15 days prior to the meeting date.

Authority: 16 U.S.C. 1801 et seq.

Dated: February 13, 2025.
Alyssa Weigers,
Acting Deputy Director, Office of Sustainable Fisheries, National Marine Fisheries Service.

[FR Doc. 2025-02803 Filed 2-18-25; 8:45 am]

BILLING CODE 3510-22-P